DEPARTMENT OF HOMELAND SECURITY

Federal Emergency Management Agency

44 CFR Part 65

[Docket No. FEMA-B-7754]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Mohave | City of Kingman (06-09-BH12P) | October 25, 2007; November 1, 2007; The Kingman Daily Miner | The Honorable Lester Byram, Mayor, City of Kingman, 310 North Fourth Street, Kingman, AZ 86401 | February 7, 2008 | 040060
California:
San Diego | Unincorporated areas of San Diego County (07-09-1709P) | October 11, 2007; October 18, 2007; San Diego Daily Transcript | The Honorable Ron Roberts, Chairman, San Diego County Board of Supervisors, 1600 Pacific Highway, Room 335, San Diego, CA 92101 | January 17, 2008 | 060284
Shasta | City of Anderson (07-09-1859P) | October 17, 2007; October 24, 2007; Tri-Valley Post | The Honorable Keith Webster, Mayor, City of Anderson, 1887 Howard Street, Anderson, CA 96007 | January 22, 2008 | 060359
Stanislaus | Unincorporated areas of Stanislaus County (08-09-0041X) | October 18, 2007; October 25, 2007; The Modesto Bee | The Honorable William O'Brien, Chairman of the Board of Supervisors, 1010 Tenth Street, Suite 6500, Modesto, CA 95354 | October 19, 2007 | 060384
Ventura | City of Simi Valley (07-09-1419P) | October 18, 2007; October 25, 2007; Ventura County Star | The Honorable Paul Miller, Mayor, City of Simi Valley, 2929 Tapo Canyon Road, Simi Valley, CA 93063 | January 24, 2008 | 060421
Colorado:
El Paso | City of Colorado Springs (07-08-0414P) | October 10, 2007; October 17, 2007; El Paso County Advertiser and News | The Honorable Lionel Rivera, Mayor, City of Colorado Springs, P.O. Box 1575, Colorado Springs, CO 80901 | January 16, 2008 | 080060
El Paso | Unincorporated areas of El Paso County (07-08-0414P) | October 10, 2007; October 17, 2007; El Paso County Advertiser and News | The Honorable Dennis Hisey, Chairman, El Paso County Board of Commissioners, 27 East Vermijo Avenue, Colorado Springs, CO 80903-2208 | January 16, 2008 | 080059
Florida:
Sarasota | Unincorporated areas of Sarasota County (07-04-3837P) | October 11, 2007; October 18, 2007; Sarasota Herald-Tribune | The Honorable Nora Patterson, Chairman, Sarasota County Board of Commissioners, 1660 Ringling Boulevard, Sarasota, FL 34236 | January 17, 2008 | 125144
St. Johns | Unincorporated areas of St. Johns County (07-04-5711P) | October 18, 2007; October 25, 2007; The St. Augustine Record | The Honorable Ben Rich, Chairman, Saint Johns County Board of Commissioners, 4020 Lewis Speedway, Saint Augustine, FL 32084 | September 28, 2007 | 125147
Georgia: Athens-Clarke | Unincorporated areas of Athens-Clarke County (07-04-1274P) | October 5, 2007; October 12, 2007; Athens Banner-Herald | The Honorable Heidi Davison, Mayor, Athens-Clarke County, 235 Wells Drive, Athens, GA 30606 | September 14, 2007 | 130040
Illinois:
St. Clair | City of Belleville (06-05-C230P) | October 18, 2007; October 25, 2007; Belleville News-Democrat | The Honorable Mark W. Eckert, Mayor, City of Belleville, 101 South Illinois Street, Belleville, IL 62220 | January 24, 2008 | 170618
St. Clair | City of O'Fallon (07-05-4876P) | October 18, 2007; October 25, 2007; Bellenille News-Democrat | The Honorable Gary L. Graham, Mayor, City of O'Fallon, 255 South Lincoln Avenue, O'Fallon, IL 62269 | September 28, 2007 | 170633
St. Clair | Unincorporated areas of St. Clair County (06-05-C230P) | October 18, 2007; October 25, 2007; Belleville News-Democrat | The Honorable Mark Kern, Chairman, St. Clair County Board of Supervisors, County Courthouse 10 Public Square, Belleville, IL 62220-1623 | January 24, 2008 | 170616
Will | Village of Mokena (07-05-5016P) | October 11, 2007; October 18, 2007; The Herald News | The Honorable Joseph W. Werner, Village President, Village of Mokena, 11004 Carpenter Street, Mokena, IL 60448 | September 21, 2007 | 170705
Maine: Waldo | City of Belfast (07-01-0609P) | August 11, 2007; August 16, 2007; The Republican Journal | Mr. Terrence St. Peter, City Manager, City of Belfast, 131 Church Street, Belfast, ME 04915 | July 23, 2007 | 230129
Maryland: Cecil | Unincorporated areas of Cecil County (06-03-B926P) | October 18, 2007; October 25, 2007; Cecil Whig | The Honorable William C. Manlove, President, Cecil County Board of Commissioners, 107 North Street, Elkton, MD 21921 | January 24, 2008 | 240019
Massachusetts:
Berkshire | City of Pittsfield (07-01-0973P) | October 18, 2007; October 25, 2007; The Berkshire Eagle | The Honorable James M. Ruberto, Mayor, City of Pittsfield, 70 Allen Street, Pittsfield, MA 01201 | January 24, 2008 | 250037
Suffolk | City of Revere (07-01-0489P) | October 10, 2007; October 17, 2007; The Revere Journal | The Honorable Thomas G. Ambrosino, Mayor, City of Revere, City Hall, 281 Broadway, Revere, MA 02151 | September 20, 2007 | 250288
Michigan: Oakland | Township of West Bloomfield (07-05-3615P) | October 17, 2007; October 24, 2007; Spinal Column Newsweekly | The Honorable David Flaisher, Supervisor, Township of West Bloomfield, P.O. Box 250130, West Bloomfield, MI 48325-0130 | October 2, 2007 | 260182
Minnesota:
Benton | City of St. Cloud (06-05-B082P) | October 17, 2007; October 24, 2007; St. Cloud Times | The Honorable Dave Kleis, Mayor, City of Saint Cloud, 400 Second Street South, Saint Cloud, MN 56301 | January 23, 2008 | 270019
Benton | City of Sauk Rapids (06-05-B082P) | October 17, 2007; October 24, 2007; Sauk Rapids Herald | The Honorable Mark Campbell, Mayor, City of Sauk Rapids, 914 Arbor Way, Sauk Rapids, MN 56379 | January 23, 2008 | 270023
Benton | Unincorporated areas of Benton County (06-05-B082P) | October 17, 2007; October 24, 2007; Sauk Rapids Herald | The Honorable Dick Soyka, Chairman of Benton County, 531 Dewey Street, P.O. Box 129, Foley, MN 56329 | January 23, 2008 | 270019
Hennepin | City of Brooklyn Park (07-05-2478P) | October 18, 2007; October 25, 2007; Brooklyn Park Sun | The Honorable Steve Lampi, Mayor, City of Brooklyn Park, 1209 88th Avenue North, Brooklyn Park, MN 55424 | October 29, 2007 | 270152
Hennepin | City of Edina (07-05-4704P) | October 18, 2007; October 25, 2007; Edina Sun-Current | The Honorable James Hovland, Mayor, City of Edina, 4801 West 50th Street, Edina, MN 55424 | September 28, 2007 | 270160
Hennepin | City of Hopkins (07-05-4704P) | October 18, 2007; October 25, 2007; Hopkins Sun-Sailor | The Honorable Eugene Maxwell, Mayor, City of Hopkins, 1010 First Street South, Hopkins, MN 55343 | September 28, 2007 | 270166
Hennepin | City of St. Louis Park (07-05-4704P) | October 18, 2007; October 25, 2007; St. Louis Park Sun-Sailor | The Honorable Jeff Jacobs, Mayor, City of St. Louis Park, 7300 Metro Boulevard, Suite 300, Edina, MN 55437-2302 | September 28, 2007 | 270184
Missouri:
St. Louis | City of Chesterfield (06-07-B578P) | October 11, 2007; October 18, 2007; The St. Louis Daily Record | The Honorable John Nations, Mayor, City of Chesterfield, 690 Chesterfield Parkway West, Chesterfield, MO 63017-0670 | January 17, 2008 | 290896
St. Louis | City of Chesterfield (07-07-1386P) | October 11, 2007; October 18, 2007; The St. Louis Daily Record | The Honorable John Nations, Mayor, City of Chesterfield, 690 Chesterfield Parkway West, Chesterfield, MO 63017-0760 | September 27, 2007 | 290896
St. Louis | Unincorporated areas of St. Louis County (06-07-B578P) | October 11, 2007; October 18, 2007; The St. Louis Daily Record | The Honorable Charlie A. Dooley; County Executive, St. Louis County, 41 South Central Avenue, Clayton, MO 63105 | January 17, 2008 | 290327
Mississippi: DeSoto | City of Southaven (07-04-4518P) | October 25, 2007; November 1, 2007; DeSoto Times Today | The Honorable Charles G. Davis, Mayor, City of Southaven, 8710 Northwest Drive, Southaven, MS 38671 | October 9, 2007 | 280331
Montana:
Richland | City of Sidney (07-08-0006P) | October 17, 2007; October 24, 2007; Sidney Herald | The Honorable Brett Smelser, Mayor, City of Sidney, 115 Second Street Southeast, Sidney, MT 59270 | January 23, 2008 | 300065
Richland | Unincorporated areas of Richland County (07-08-0006P) | October 17, 2007; October 24, 2007; Sidney Herald | The Honorable Don Steppler, Chairman, Richland County Board of Commissioners, 201 West Main Street, Sidney, MT 59270 | January 23, 2008 | 300165
Nebraska:
Hall | City of Grand Island (07-07-0780P) | October 18, 2007; October 25, 2007; The Grand Island Independent | The Honorable Margaret Hornady, Mayor, City of Grand Island, 100 East First Street, Grand Island, NE 68801 | September 28, 2007 | 310103
Lancaster | City of Hickman (07-07-1852P) | October 25, 2007; November 1, 2007; Lincoln Journal Star | The Honorable Jim Hrouda, Mayor, City of Hickman, P.O. Box 127, Hickman, NE 68372 | November 5, 2007 | 310136
North Carolina: Mecklenburg | Town of Huntersville (07-04-0542P) | October 15, 2007; October 22, 2007; The Charlotte Observer | The Honorable Kim Phillips, Mayor, Town of Huntersville, P.O. Box 667, Huntersville, NC 28078 | January 21, 2008 | 370478
Ohio: Lake | Village of Perry (07-05-0261P) | October 25, 2007; November 1, 2007; The News-Herald | The Honorable Lee Lydic, Mayor, Village of Perry, P.O. Box 100, Perry, OH 44081 | October 1, 2007 | 390320
Oklahoma:
Tulsa | City of Tulsa (07-06-2371P) | October 18, 2007; October 25, 2007; Tulsa World | The Honorable Kathy Taylor, Mayor, City of Tulsa, 200 Civic Center, Tulsa, OK 74103 | January 24, 2008 | 405381
Tulsa | Unincorporated areas of Tulsa County (07-06-2371P) | October 18, 2007; October 25, 2007; Tulsa World | The Honorable Randi Miller, Chair, Tulsa County Board of Supervisors, 500 South Denver Avenue, Tulsa, OK 74103 | January 24, 2008 | 400462
Pennsylvania:
Bucks | Township of Wrightstown (07-03-1222P) | October 18, 2007; October 25, 2007; Bucks County Courier Times | The Honorable Chester Pogonowski, Chairman, Board of Supervisors, Wrightstown Township, 2203 Second Street Pike, Wrightstown, PA 18940 | September 24, 2007 | 421045
York | Township of Dover (07-03-0878P) | September 13, 2007; September 20, 2007; The York Dispatch | The Honorable Shane Patterson, Chairman, Board of Supervisors, Dover Township Municipal Building, 2480 West Canal Road, Dover, PA 17315 | December 20, 2007 | 420920
South Carolina:
Horry | City of Conway (07-04-4404P) | October 18, 2007; October 25, 2007; Horry Independent | The Honorable Gregory K. Martin, Mayor, City of Conway, P.O. Box 1075, Conway, SC 29528 | January 24, 2008 | 415106
Horry | Unincorporated areas of Horry County (07-04-4404P) | October 18, 2007; October 25, 2007; Horry Independent | The Honorable Liz Gilland, Council Chairman, Horry County, 1511 Elm Street, Conway, SC 29526 | January 24, 2008 | 415104
Horry | Unincorporated areas of Horry County (07-04-5516P) | October 18, 2007; October 25, 2007; Horry Independent | The Honorable Liz Gilland, Council Chairman, Horry County, 1511 Elm Street, Conway, SC 29526 | January 24, 2008 | 415104
Texas:
Cameron | Village of Laguna Vista (08-06-0039P) | October 18, 2007; October 25, 2007; The Brownsville Herald | The Honorable David Privett, Mayor, Village of Laguna Vista, 122 Fernandez Street, Laguna Vista, TX 78578 | October 29, 2007 | 485483
Cameron | Unincorporated areas of Cameron County (08-06-0039P) | October 18, 2007; October 25, 2007; The Brownsville Herald | The Honorable Carlos H. Cascos, CPA, Cameron County Judge, 1100 East Monroe Street, Second Floor, Brownsville, TX 78520 | October 29, 2007 | 480101
Collin | City of Allen (07-06-1312P) | October 18, 2007; October 25, 2007; The Allen American | The Honorable Stephen Terrell, Mayor, City of Allen, 305 Century Parkway, Allen, TX 75013 | January 17, 2008 | 480131
Collin | City of Murphy (07-06-0453P) | October 17, 2007; October 24, 2007; Wylie News | The Honorable Bret Baldwin, Mayor, City of Murphy, 206 North Murphy Road, Murphy, TX 75094 | January 23, 2008 | 480137
Collin | City of Plano (07-06-0947P) | October 11, 2007; October 18, 2007; Plano Star Courier | The Honorable Pat Evans, Mayor, City of Plano, 1520 Avenue K, Plano, TX 75074 | January 17, 2008 | 480140
Collin | City of Plano (07-06-1312P) | October 18, 2007; October 25, 2007; Plano Star Courier | The Honorable Pat Evans, Mayor, City of Plano, 1520 Avenue K, Plano, TX 75074 | January 17, 2008 | 480140
Hays | City of Buda (07-06-1313P) | October 17, 2007; October 24, 2007; Hays Free Press | The Honorable Bobby Lane, Mayor Pro-Tem, City of Buda, 217 Arikara Street, Buda, TX 78610 | January 23, 2008 | 481640
Travis | Unincorporated areas of Travis County (07-06-0940P) | October 18, 2007; October 25, 2007; Austin American-Statesman | The Honorable Samuel T. Biscoe, Travis County Judge, 314 West 11th Street, Suite 520, Austin, TX 78701 | January 24, 2008 | 481026
Virginia: Independent City | City of Winchester (07-03-1291P) | October 18, 2007; October 25, 2007; The Winchester Star | The Honorable Elizabeth Minor, Mayor, City of Winchester, 422 National Avenue, Winchester, VA 22601 | January 24, 2008 | 510173
West Virginia: Jefferson | Unincorporated areas of Jefferson County (07-03-0242P) | October 18, 2007; October 25, 2007; The Journal | The Honorable Frances Morgan, President, Jefferson County Commission, Post Office Box 250, Charles Town, WV 25414 | January 24, 2008 | 540065

(Catalog of Federal Domestic Assistance No. 97.022, “Flood Insurance.”)

Dated: January 3, 2008.
David I. Maurstad,
Federal Insurance Administrator of the National Flood Insurance Program, Department of Homeland Security, Federal Emergency Management Agency.

[FR Doc. E8-706 Filed 1-15-08; 8:45 am]

BILLING CODE 9110-12-P